DEPARTMENT OF ENERGY

Federal Energy Regulatory Commission

Combined Notice of Filings #1

Take notice that the Commission received the following electric corporate filings:

Docket Numbers: EC23-20-000.

Applicants: Buena Vista Energy Center, LLC.

Description: Supplement to November 1, 2022 Application for Authorization Under Section 203 of the Federal Power Act of Buena Vista Energy Center, LLC.

Filed Date: 12/21/22.

Accession Number: 20221221-5320.

Comment Date: 5 p.m. ET 12/27/22.

Take notice that the Commission received the following exempt wholesale generator filings:

Docket Numbers: EG23-43-000.

Applicants: Remy Jade Generating, LLC.

Description: Remy Jade Generating, LLC submits Notice of Self-Certification of Exempt Wholesale Generator Status.

Filed Date: 12/21/22.

Accession Number: 20221221-5313.

Comment Date: 5 p.m. ET 1/11/23.

Docket Numbers: EG23-44-000.

Applicants: PGR 2022 Lessee 2, LLC.

Description: PGR 2022 Lessee 2, LLC submits Notice of Self-Certification of Exempt Wholesale Generator Status.

Filed Date: 12/22/22.

Accession Number: 20221222-5117.

Comment Date: 5 p.m. ET 1/12/23.

Docket Numbers: EG23-45-000.

Applicants: Cathcart Solar, LLC.

Description: Cathcart Solar, LLC submits Notice of Self-Certification of Exempt Wholesale Generator Status.

Filed Date: 12/22/22.

Accession Number: 20221222-5120.

Comment Date: 5 p.m. ET 1/12/23.

Docket Numbers: EG23-46-000.

Applicants: Fresh Air Energy XXXVII, LLC.

Description: Fresh Air Energy XXXVII, LLC submits Notice of Self-Certification of Exempt Wholesale Generator Status.

Filed Date: 12/22/22.

Accession Number: 20221222-5122.

Comment Date: 5 p.m. ET 1/12/23.

Docket Numbers: EG23-47-000.

Applicants: Thigpen Farms Solar, LLC.

Description: Thigpen Farms Solar, LLC submits Notice of Self-Certification of Exempt Wholesale Generator Status.

Filed Date: 12/22/22.

Accession Number: 20221222-5126.

Comment Date: 5 p.m. ET 1/12/23.

Docket Numbers: EG23-48-000.

Applicants: Fresh Air Energy XXIII, LLC.

Description: Fresh Air Energy XXIII, LLC submits Notice of Self-Certification of Exempt Wholesale Generator Status.

Filed Date: 12/22/22.

Accession Number: 20221222-5130.

Comment Date: 5 p.m. ET 1/12/23.

Take notice that the Commission received the following Complaints and Compliance filings in EL Dockets:

Docket Numbers: EL21-38-000.

Applicants: City Water, Light & Power-City of Springfield, IL.

Description: Midcontinent Independent System Operator, Inc. submits Refund Report of The City of Springfield, Illinois, City Water, Light and Power to be effective January 1, 2021.

Filed Date: 12/6/22.

Accession Number: 20221206-5176.

Comment Date: 5 p.m. ET 1/12/23.

Take notice that the Commission received the following electric rate filings:

Docket Numbers: ER21-2442-000.

Applicants: Morgan Stanley Capital Group Inc.

Description: Refund Report: Refund report to be effective N/A.

Filed Date: 12/22/22.

Accession Number: 20221222-5216.

Comment Date: 5 p.m. ET 1/12/23.

Docket Numbers: ER22-80-001.

Applicants: Coyote Ridge Wind, LLC.

Description: Midcontinent Independent System Operator, Inc. submits tariff filing per 35.19a(b): Refund Report of Coyote Ridge Wind, LLC to be effective N/A.

Filed Date: 12/16/22.

Accession Number: 20221216-5320.

Comment Date: 5 p.m. ET 1/6/23.

Docket Numbers: ER22-526-002.

Applicants: Glacier Sands Wind Power, LLC.

Description: Compliance filing: Compliance Filing in Docket ER22-526 to be effective 2/1/2022.

Filed Date: 12/22/22.

Accession Number: 20221222-5104.

Comment Date: 5 p.m. ET 1/12/23.

Docket Numbers: ER22-728-001.

Applicants: Pegasus Wind, LLC.

Description: Midcontinent Independent System Operator, Inc. submits tariff filing per 35.19a(b): Refund Report of Pegasus Wind, LLC to be effective N/A.

Filed Date: 12/16/22.

Accession Number: 20221216-5319.

Comment Date: 5 p.m. ET 1/6/23.

Docket Numbers: ER22-839-003.

Applicants: Copper Mountain Solar 5, LLC.

Description: Compliance filing: Compliance Filing in Docket ER22-839 to be effective 1/20/2022.

Filed Date: 12/22/22.

Accession Number: 20221222-5091.

Comment Date: 5 p.m. ET 1/12/23.

Docket Numbers: ER22-840-003.

Applicants: Battle Mountain SP, LLC.

Description: Compliance filing: Compliance Filing in Docket ER22-840 to be effective 1/20/2022.

Filed Date: 12/22/22.

Accession Number: 20221222-5099.

Comment Date: 5 p.m. ET 1/12/23.

Docket Numbers: ER22-841-003.

Applicants: Spring Valley Wind LLC.

Description: Compliance filing: Compliance Filing for Docket ER22-841 to be effective 1/20/2022.

Filed Date: 12/22/22.

Accession Number: 20221222-5048.

Comment Date: 5 p.m. ET 1/12/23.

Docket Numbers: ER22-2836-000.

Applicants: Midcontinent Independent System Operator, Inc.

Description: Rochester Public Utilities submits Supplement to September 12, 2022 Filing to Revise Attachment O—Formula Rate.

Filed Date: 12/19/22.

Accession Number: 20221219-5311.

Comment Date: 5 p.m. ET 12/29/22.

Docket Numbers: ER23-366-001.

Applicants: PJM Interconnection, L.L.C.

Description: Tariff Amendment: Request to Defer Action on Revised ISA, SA No. 2782; Queue No. W3-002 to be effective 12/31/9998.

Filed Date: 12/22/22.

Accession Number: 20221222-5153.

Comment Date: 5 p.m. ET 1/12/23.

Docket Numbers: ER23-442-000.

Applicants: PJM Interconnection, L.L.C.

Description: Motion for Leave to Answer and Answer of PJM Interconnectio, L.L.C.

Filed Date: 12/22/22.

Accession Number:20221222-5210.

Comment Date: 5 pm ET 1/12/23.

Docket Numbers: ER23-705-000.

Applicants: ISO New England Inc., New England Power Pool Participants Committee.

Description: § 205(d) Rate Filing: ISO New England Inc. submits tariff filing per 35.13(a)(2)(iii: ISO-NE/NEPOOL; Revisions to Incorporate Changes Related to the IEP to be effective 2/20/2023.

Filed Date: 12/22/22.

Accession Number: 20221222-5001.

Comment Date: 5 pm ET 1/12/23.

Docket Numbers: ER23-706-000.

Applicants: New York State Electric & Gas Corporation, New York Independent System Operator, Inc.

Description: § 205(d) Rate Filing: New York State Electric & Gas Corporation submits tariff filing per 35.13(a)(2)(iii: NYISO-NYSEG Joint 205: Amended LGIA NYISO, NYSEG, Eight Point Wind SA2452—CEII to be effective 12/9/2022.

Filed Date: 12/22/22.

Accession Number: 20221222-5057.

Comment Date: 5 pm ET 1/12/23.

Docket Numbers: ER23-707-000.

Applicants: Black Hills Power, Inc.

Description: § 205(d) Rate Filing: Filing of Balancing Authority Agreement to be effective 2/21/2023.

Filed Date: 12/22/22.

Accession Number: 20221222-5073.

Comment Date: 5 pm ET 1/12/23.

Docket Numbers: ER23-708-000.

Applicants: Public Service Company of Colorado.

Description: § 205(d) Rate Filing: 2022-12-22-Trans Formula 205 Filing—OATT Filing to be effective 1/1/2023.

Filed Date: 12/22/22.

Accession Number: 20221222-5088.

Comment Date: 5 pm ET 1/12/23.

Docket Numbers: ER23-709-000.

Applicants: Mississippi Power Company.

Description: Compliance filing: Petition for Approval of Settlement Agreement.

Filed Date: 12/22/22.

Accession Number: 20221222-5098.

Comment Date: 5 pm ET 1/12/23.

Docket Numbers: ER23-710-000.

Applicants: Mountrail-Williams Electric Cooperative.

Description: Request for Waiver of Prior Notice Requirement of Mountrail-Williams Electric Cooperative.

Filed Date: 12/20/22.

Accession Number: 20221220-5294.

Comment Date: 5 pm ET 1/10/23.

Docket Numbers: ER23-711-000.

Applicants: Turquoise Nevada LLC.

Description: § 205(d) Rate Filing: Third Amended and Restated Shared Facilities Agreement to be effective 12/23/2022.

Filed Date: 12/22/22.

Accession Number: 20221222-5103.

Comment Date: 5 pm ET 1/12/23.

Docket Numbers: ER23-712-000.

Applicants: PJM Interconnection, L.L.C.

Description: § 205(d) Rate Filing: Revisions to OATT Sch. 12-Appendices re: 2023 RTEP Annual Cost Allocations to be effective 1/1/2023.

Filed Date: 12/22/22.

Accession Number: 20221222-5123.

Comment Date: 5 pm ET 1/12/23.

Docket Numbers: ER23-713-000.

Applicants: Cheyenne Light, Fuel and Power Company.

Description: § 205(d) Rate Filing: Filing of Western Consolidated Facilities Agreement to be effective 2/21/2023.

Filed Date: 12/22/22.

Accession Number: 20221222-5124.

Comment Date: 5 pm ET 1/12/23.

Docket Numbers: ER23-718-000.

Applicants: Public Service Company of Colorado.

Description: § 205(d) Rate Filing: 2022 Production Ministerial Filing to be effective 1/1/2023.

Filed Date: 12/22/22.

Accession Number: 20221222-5175.

Comment Date: 5 pm ET 1/12/23.

Docket Numbers: ER23-720-000.

Applicants: DTE Electric Company.

Description: Request for Authorization to Engage in Affiliate Transactions; Request for Waivers; and Request for Privileged and Confidential Treatment of DTE Electric Company.

Filed Date: 12/13/22.

Accession Number: 20221213-5199.

Comment Date: 5 pm ET 1/3/23.

Docket Numbers: ER23-721-000.

Applicants: SunZia Transmission, LLC.

Description: Baseline eTariff Filing: Transmission Service Agreement with SunZia Wind PowerCo LLC to be effective 2/20/2023.

Filed Date: 12/22/22,

Accession Number: 20221222-5199.

Comment Date: 5 pm ET 1/12/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2022.
Kimberly D. Bose,
Secretary.

[FR Doc. 2022-28397 Filed 12-28-22; 8:45 am]

BILLING CODE 6717-01-P